DEPARTMENT OF THE INTERIOR

Bureau of Reclamation

San Luis Drainage Feature Re-evaluation, Alameda, Contra Costa, Fresno, Kern, Kings, Merced, San Joaquin, San Luis Obispo, and Stanislaus Counties, CA

AGENCY: Bureau of Reclamation, Interior.

ACTION: Notice of availability of the Draft Environmental Impact Statement (Draft EIS) and notice of public hearings; DES 05-28.

SUMMARY: Pursuant to the National Environmental Policy Act (NEPA) of 1969 (as amended), the Bureau of Reclamation (Reclamation) has made available for public review and comments a Draft EIS for the San Luis Drainage Feature Re-evaluation. The Draft EIS describes and presents the environmental effects of the eight alternatives, the no-Action alternative and seven action alternatives. Four public hearings will be held to receive comments from individuals and organizations on the Draft EIS.

DATES: The Draft EIS will be available for a 60-day public review period. Comments are due on August 1, 2005. Four public hearings have been scheduled to receive oral or written comments regarding the project's environmental effects:

• Monday, July 11, 2005, 1:30 p.m. to 3:30 p.m., Sacramento, CA

• Tuesday, July 12, 2005, 6 p.m. to 8 p.m., Concord, CA

• Wednesday, July 13, 2005, 6 p.m. to 8 p.m., Fresno, CA

• Thursday, July 14, 2005, 6 p.m. to 8 p.m., Cayucos, CA

ADDRESSES: The public hearings will be held at the following locations:

• Federal Building, Cafeteria Conference Room C-1001, 2800 Cottage Way, Sacramento, CA 95825

• Heald College Conference Center, Rooms 1 and 2, 5130 Commercial Circle, Concord, CA 94520

• Piccadilly Inn Shaw, Crown Room, 2305 West Shaw, Fresno, CA 93711

• Cayucos Veterans Hall, 10 Cayucos Drive, Cayucos, CA 93430

Send comments on the Draft EIS to San Luis Drainage Feature Re-evaluation, c/o Mr. Jerry Robbins, Project Manager, Bureau of Reclamation, 2800 Cottage Way, Sacramento, CA 95825 or by calling 916-978-5061.

Copies of the Draft EIS may be requested from Mr. Jerry Robbins, Project Manager, Bureau of Reclamation, at the above address or by calling 916-978-5061. See Supplementary Information section for locations where copies of the Draft EIS are available for public inspection.

FOR FURTHER INFORMATION CONTACT: Mr. Jerry Robbins, Project Manager, Bureau of Reclamation, 2800 Cottage Way, Sacramento, CA 95825 or by calling 916-978-5061.

SUPPLEMENTARY INFORMATION: The proposal Federal actions is to plan and construct a drainage system for the San Luis Unit. This proposed action would meet the needs of the San Luis Unit for drainage service, fulfill the requirements of the February 2000 Court Order, and be completed under the authority of Public Law 86-488. The Draft EIS evaluates seven action alternatives in addition to a No Action alternative: In-Valley Disposal, In-Valley Groundwater Quality Land Retirement, In-Valley Water Needs Land Retirement, In-Valley Drainage Impaired Area Land Retirement, Ocean Disposal, Delta-Chipps Island Disposal, and Delta-Carquinez Strait Disposal. All of the alternatives would include common elements: On-farm and in-district actions, drainwater collection systems, regional reuse facilities, the Firebaugh sumps, and land retirement of at least 44,106 acres. In addition to the common elements, the action alternatives (except Ocean Disposal) involve varying levels of drainwater treatment (by reverse osmosis and/or biological selenium treatment) and/or additional land retirement. Reclamation has not identified an agency preferred action alternative and the environmentally preferred alternative in the Draft EIS. Reclamation has identified the resources to be evaluated in the Draft EIS to include surface water resources, groundwater resources, biological resources, selenium bioaccumulation, geology and seismicity, energy resources, air resources, agricultural production and economics, land use and soil resources, recreational resources, cultural resources, aesthetics, regional economics, and social issues and environmental justice. Reclamation has determined that the action alternatives were unlikely to affect traffic and transportation, noise, utilities and public services, and Indian Trust Assets.

Copies of the Draft EIS are available for public inspection and review at the following locations:

• U.S. Bureau of Reclamation, Denver Office Library, Building 67, Room 167, Denver Federal Center, 6th and Kipling, Denver, CO 80225; telephone: 303-445-2072

• U.S. Bureau of Reclamation, Office of Public Affairs, 2800 Cottage Way, Sacramento, CA 95825-1898; telephone: 916-978-5100

• Natural Resources Library, U.S. Department of the Interior, 1849 C Street NW., Main Interior Building, Washington, DC 20240-0001

• Alameda County Public Library, 2450 Stevenson Blvd., Fremont, CA

• Contra Costa County Public Library, 1750 Oak Park Blvd., Pleasant Hill, CA

• Fresno County Public Library, 2420 Mariposa Street, Fresno, CA

• Kern County Public Library, 701 Truxton Avenue, Bakersfield, CA

• Kings County Public Library, 401 N. Douty Street, Hanford, CA

• Merced County Public Library, 1312 South 7th Street, Los Banos, CA

• San Joaquin Public Library, 605 N. El Dorado Street, Stockton, CA

• San Luis Obispo County Public Library, P.O. Box 8107, San Luis Obispo, CA

• Stanislaus County Public Library, 1500 I Street, Modesto, CA

• UCB Water Resources Center Archives, 410 O'Brien Hall, Berkeley, CA

• http://www.usbr.gov/mp/

Oral and written comments, including names and home addresses of respondents, will be available for public review. Individual respondents may request that we withhold their home address from public disclosure, which will be honored to the extent allowable by law. There may be circumstances in which a respondent's identity may also be withheld from public disclosure, as allowable by law. If you wish to have your name and/or address withheld, you must state this prominently at the beginning of your comment. All submissions from organizations or businesses, and from individuals identifying themselves as representatives or officials of organizations or businesses, will be made available for public disclosure in their entirety.

Hearing Process Information

The purpose of the public hearing is to provide the public with an opportunity to comment on environmental issues addressed in the Draft EIS. Written comments will also be accepted.

Persons needing special assistance to attend and participate in the public hearing should contact Mr. Jerry Robbins, at 916-978-5061, as soon as possible. In order to allow sufficient time to process requests, please call no later than one week before the public hearing. Information regarding this proposed action is available in alternative formats upon request.

Dated: March 5, 2005.
Kirk C. Rodgers,
Regional Director, Mid-Pacific Region.

[FR Doc. 05-10908 Filed 6-1-05; 8:45 am]

BILLING CODE 4310-MN-M